DEPARTMENT OF ENERGY

Federal Energy Regulatory Commission

[Docket No. ER98-511-003, et al.]

Oklahoma Gas and Electric Company, et al.; Electric Rate and Corporate Filings

April 26, 2005.

The following filings have been made with the Commission. The filings are listed in ascending order within each docket classification.

1. Oklahoma Gas and Electric Company, OGE Energy Resources, Inc.

[Docket Nos. ER98-511-003, ER98-511-004, ER97-4345-015, ER97-4345-016]

Take notice that on April 20, 2005, Oklahoma Gas and Electric Company (OG&E) and OGE Energy Resources, Inc. (OERI) submitted blacklined versions of the market-based rate tariffs of OG&E (FERC Electric Tariff, First Revised Volume No. 3) and OERI (Second Revised Rate Schedule FERC No. 1) originally filed on February 7, 2005 in Docket Nos. ER98-511-003 and ER97-4345-015. OG&E and OERI state that the April 20, 2005 filing replaces their April 11, 2005 filing in Docket Nos. ER98-411-004 and ER97-4345-016.

OG&E and OERI state that copies of the filing were served upon all parties on the service lists in the above referenced proceedings.

Comment Date: 5 p.m. Eastern Time on May 2, 2005.

2. Sempra Energy Solutions

[Docket No. ER00-3444-005]

Take notice that on April 22, 2005, Sempra Energy Solutions submitted revised tariff sheets in compliance with the order issued by the Commission on March 25, 2005 in Docket No. ER01-1178-003, et al., 110 FERC ¶ 61,344, to incorporate the requirements adopted by the Commission in Order No. 652, Reporting Requirement for Changes in Status for Public Utilities with Market-Based Rate Authority, 110 FERC ¶ 61,097 (2005).

Comment Date: 5 p.m. Eastern Time on May 13, 2005.

3. Ameren Energy Development Company, Ameren Energy Generating Company, Ameren Energy Marketing Company, AmerenEnergy Medina Valley Cogen, LLC, AmerenEnergy Resources Generating Company, Central Illinois Light Company, Union Electric Company, Central Illinois Public Service Company, Illinois Power Company

[Docket Nos. ER01-294-005, ER00-3412-006, ER00-816-004, ER04-8-005, ER04-53-007, ER98-2440-006, ER00-2687-005, ER98-3285-003, ER05-638-001]

Take notice that on April 21, 2005, Ameren Services Company (Ameren Services), on behalf of the above-listed affiliates and subsidiaries of Ameren Corporation, submitted a compliance filing required by the order issued by the Commission in Docket No. ER05-638-000, et al., 110 FERC ¶ 61,408 (2005).

Ameren Services states that copies of this filing were served on all parties in the above-referenced proceedings and all affected state commissions.

Comment Date: 5 p.m. Eastern Time on May 12, 2005.

4. Westar Energy, Inc.; Kansas Gas and Electric Company; Westar Energy, Inc.

[Docket Nos. ER03-9-004, ER98-2157-005, EL05-64-000]

Take notice that on April 22, 2005, Westar Energy, Inc. and Kansas Gas and Electric Company (together, Westar) submitted a compliance filing pursuant to the Commission's order issued March 23, 2005 in Docket No. ER03-9-002, et al., 110 FERC ¶ 61,316 (2005).

Westar states that copies of the filing were served on parties on the official service lists in the above-referenced proceedings.

Comment Date: 5 p.m. Eastern Time on May 13, 2005.

5. Reliant Energy Florida, LLC

[Docket No. ER05-143-001]

Take notice that on April 20, 2005, Reliant Energy Florida, LLC (Reliant) submitted a notice of change in status that reflects a departure from the characteristics the Commission relied upon in granting Reliant market-based rate authority and revised tariff sheets to reflect the requirements adopted by the Commission in Order No. 652, Reporting Requirement for Changes in Status for Public Utilities with Market-Based Rate Authority, 110 FERC ¶ 61,097 (2005).

Comment Date: 5 p.m. Eastern Time on May 3, 2005.

6. Brownsville Power I, L.L.C.; Caledonia Power I, L.L.C.; Cinergy Capital & Trading, Inc.

[Docket Nos. ER05-263-000, ER05-263-001, ER05-264-000, ER05-264-001, ER05-265-000, ER05-265-001]

Take notice that on April 21, 2005, Brownsville Power I, L.L.C., Caledonia Power I, L.L.C., and Cinergy Capital & Trading, Inc. submitted a notification of withdrawal of their filings submitted November 24, 2004 and February 8, 2005 in the above-referenced Docket Nos.

Comment Date: 5 p.m. Eastern Time on May 12, 2005.

7. Georgia Energy Cooperative

[Docket No. ER05-349-003]

Take notice that on April 21, 2005, Georgia Energy Cooperative (GEC), filed a notice of change in status pursuant to Order No. 652, Reporting Requirement for Changes in Status for Public Utilities with Market-Based Rate Authority, 110 FERC ¶ 61,097 (2005).

Comment Date: 5 p.m. Eastern Time on May 12, 2005.

8. Virginia Electric and Power Company

[Docket No. ER05-709-001]

Take notice that on April 22, 2005, Virginia Electric and Power Company (Dominion) filed an amendment to its March 16, 2005 filing in Docket No. ER05-709-000 to provide information missing from the March 16, 2005 filing of a letter agreement between Dominion and Virginia Municipal Electric Association No. 1 (VMEA).

Dominion states that copies of the filing were served upon VMEA, the Virginia State Corporation Commission and the North Carolina Utilities Commission.

Comment Date: 5 p.m. Eastern Time on May 13, 2005.

9. California Independent System Operator Corporation

[Docket No. ER05-849-000]

Take notice that on April 18, 2005, the California Independent System Operator Corporation (CAISO) submitted Amendment No. 68 to the CAISO Tariff. CAISO states that Amendment No. 68 relates to the self-supply of Station Power, either remotely or on-site, by Generating Units operating under the CAISO Tariff.

CAISO states that copies of this Amendment have been served on the California Public Utilities Commission, the California Energy Commission, the California Electricity Oversight Board, all parties with effective Scheduling Coordinator Agreements under the ISO Tariff, and all parties on the service list in Docket No. EL04-130-000.

Comment Date: 5 p.m. Eastern Time on May 9, 2005.

10. Brownsville Power I, L.L.C.; Caledonia Power I, L.L.C.; Cinergy Capital & Trading, Inc.

[Docket Nos. ER05-850-000, ER05-851-000, ER05-852-000]

Take notice that on April 21, 2005, Brownsville Power I, L.L.C., Caledonia Power I, L.L.C., and Cinergy Capital & Trading, Inc. (together, Applicants) submitted amendments to their respective market-based rate tariffs to substitute a new benchmark price cap for sales between affiliates.

Applicants state that copies of the filing were served upon Applicants' customers under their respective market-based rate tariffs.

Comment Date: 5 p.m. Eastern Time on May 5, 2005.

11. San Diego Gas & Electric Company

[Docket No. ER05-853-000]

Take notice that on April 21, 2005, San Diego Gas & Electric Company (SDG&E) tendered for filing a revision to its Transmission Owner Tariff, FERC Electric Tariff, Second Revised Volume No. 11, to reflect a new category of reliability services costs incurred by SDG&E as a participating transmission owner. SDG&E requests an effective date of June 20, 2005 for the proposed tariff changes.

SDG&E states that copies of the filing have been served on the California Public Utilities Commission, the California Electricity Oversight Board, the California Independent System Operator Corporation, Pacific Gas and Electric Company, and Southern California Edison Company.

Comment Date: 5 p.m. Eastern Time on May 12, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2137 Filed 5-2-05; 8:45 am]

BILLING CODE 6717-01-P